DEPARTMENT OF HEALTH AND HUMAN SERVICES

Administration for Community Living

Notice of Intent To Award a Single-Source Non-Competing Continuation Application

AGENCY: Administration for Community Living, Health and Human Services (HHS).

ACTION: Notice of intent to award a single-source non-competing continuation application.

SUMMARY: This is a Notice of Intent to Award a Single-Source Non-Competing Continuation Application to Fund Grant Number 90ABRC, the University of Southern California, Keck School of Medicine, for an additional 12 months.

FOR FURTHER INFORMATION CONTACT: Aiesha Gurley, Administration for Community Living, Washington, DC 20201, aiesha.gurley@acl.hss.gov or 202-795-7358.

SUPPLEMENTARY INFORMATION: The Administration for Community Living announces an award of a single non-competing continuance grant 90ABRC to The University of Southern California to administer the National Center on Elder Abuse Resource Center. The University of Southern California administers the National Center on Elder Abuse which will provide up-to-date information on research, training, promising practices, news and resources on elder abuse, neglect and exploitation to professionals and the public.

Program Name: National Center on Elder Abuse.

Award Amount: $999,804.

Statutory Authority: The Older Americans Act Title II.

Catalog of Federal Domestic Assistance (CFDA) Number: 93.048.

Program Description: The Administration on Aging, an agency of the U.S. Administration for Community Living, has been funding a National Center on Elder Abuse Resource Center for thirty-two years. The project's activities includes:

1. Research

The NCEA synthesizes and disseminates high quality research on elder abuse to encourage the translation of elder abuse research into practice.

2. Practice

The NCEA provides advice and resources to professionals, researchers, advocates and families around the nation by providing individual assistance via our helpline, website and social media.

3. Policy

The NCEA understands, evaluates, and informs policy development to ensure public policy is better aligned with effective practices concerning older adults and elder abuse.

4. Education

The NCEA compiles training and awareness materials to further the field for those interested in the identification and prevention of elder abuse.

Dated: August 12, 2020.
Mary Lazare,
Principal Deputy Administrator.

[FR Doc. 2020-18008 Filed 8-17-20; 8:45 am]

BILLING CODE 4154-01-P